DEPARTMENT OF LABOR

Employment and Training Administration

[TA-W-73,376]

Wacker Neuson Corporation, a Subsidiary of Wacker Neuson SE. Menomonee Falls, WI; Notice of Termination of Investigation

By application dated August 17, 2010, a company official requested administrative reconsideration of the affirmative determination regarding workers' eligibility to apply for Trade Adjustment Assistance (TAA) applicable to workers and former workers of the subject firm. The certification of eligibility was issued on July 30, 2010. The Department's Notice of determination was published in the Federal Register on August 13, 2010 (75 FR 49530). The workers produce construction equipment and are not separately identifiable by product line.

The initial investigation resulted in an affirmative determination based on the findings that a significant proportion or number of the workers at the subject firm were totally or partially separated, or threatened with such separation, that the subject firm shifted to a foreign country the production of articles like or directly competitive with those produced by the workers, and that the shift in production contributed importantly to worker group separations at the subject firm.

On August 18, 2010, the Department issued an Affirmative Determination Regarding Application for Reconsideration for the workers and former workers of the subject firm. The Department's Notice of determination was published in the Federal Register on August 30, 2010 (75 FR 52980).

In the request for reconsideration, the company official requested that the Department rescind the affirmative determination regarding worker eligibility to apply for TAA. The company official stated that the shift in production abroad did not contribute importantly to worker separations because the production of the article that shifted employed a negligible number of workers and, when production shifted abroad, those workers were reassigned to other product lines.

Under 29 CFR 90.18(a), “Any worker, group of workers, certified or recognized union, or authorized representative of such worker group, aggrieved by a determination issued pursuant to the Act * * * may file an application for reconsideration of the determination * * *.”

Upon further review of the request for reconsideration, the Department determines that an employer's request for reconsideration of an affirmative determination is not in the best interest of the worker group and, therefore, the Department cannot infer that the employer is acting as an “authorized representative” of the worker group.

Further investigation on administrative reconsideration would serve no purpose; therefore, the investigation is terminated.

Signed at Washington, DC, this 2nd day of May, 2011.
Del Min Amy Chen,
Certifying Officer, Office of Trade Adjustment Assistance.

[FR Doc. 2011-11643 Filed 5-11-11; 8:45 am]

BILLING CODE P